ENVIRONMENTAL PROTECTION AGENCY

[FRL-7144-8]

EPA Science Advisory Board; Notification of Public Advisory Committee Meetings

Pursuant to the Federal Advisory Committee Act, Pub. L. 92-463, notice is hereby given that two committees of the US EPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office (if any) is included below.

1. Executive Committee of the EPA Science Advisory Board—March 6-7, 2002

The Executive Committee (EC) of the US EPA Science Advisory Board (SAB) will meet on Wednesday, March 6, 2002 and Thursday, March 7, 2002 in Conference Room 6013, USEPA, Ariel Rios Building North, 1200 Pennsylvania Avenue, NW, Washington, DC 20004. The meeting will begin by 8:30 am on March 6 and adjourn no later than 5:00 pm on March 7, 2002.

Purpose of the Meeting—This meeting of the SAB Executive Committee is one in a series of periodic meetings in which the EC takes action on reports generated by SAB Committees, meets with Agency leadership, and addresses a variety of issues germane to the operation of the Board. The agenda for the March 6-7, 2002 meeting will be posted on the SAB Web site, www.epa.gov/sab, not later than 5 days before the meeting and is likely to include, but not be limited to the following:

a. Action on four Committee reports:

(1) Candidate Contaminant List (CCL) Research Plan: An SAB Report from the Drinking Water Committee (DWC). (See 66 FR 19770, April 17, 2001 for further details.)

(2) A Framework for Reporting on Ecological Condition: An SAB Report from the Ecological Processes and Effects Committee (EPEC). (See 65 FR 18095, April 6, 2000 for further details.)

(3) Industrial Ecology: A Commentary from the Environmental Engineering Committee (EEC). (See 66 FR 22553, May 4, 2001 for further details.)

(4) President's FY03 Science & Technology Budget for USEPA: An SAB Report from the Research Strategies Advisory Committee (RSAC). (See 67 FR 2434, January 17, 2002 for further details.)

b. Meeting with Administration officials, including:

(1) Ms. Linda Fisher, Deputy USEPA Administrator

(2) Dr. Paul Gilman, AA/ORD

c. Matters of Board business, including discussion of the following:

(1) Activities of the Policies and Procedures Subcommittee, including recommendations on SAB Panel Formation and creation of a manual to guide certain SAB activities, see http://www.epa.gov/sab/ppsintro.htm for background.

(2) Proposed SAB activity in the area of ecology and economics

(3) The SAB agenda for FY2002 and beyond.

Availability of Review Materials—Draft SAB reports will be posted on the SAB Web site, www.epa.gov/sab, approximately 10 business days before the date of the meeting or as soon as available. The underlying documents that are the subject of SAB reviews, however, are not available from the SAB Office but are normally available from the originating EPA office (please see FR references above for details or background materials for each report under review by the EC).

Charge to the Executive Committee—The focus of the review of these four Committee reports will be on the following questions:

(a) Has the SAB adequately responded to the questions posed in the Charge?

(b) Are the statements and/or responses in the draft report clear?

(c) Are there any errors of fact in the report?

In accord with the Federal Advisory Committee Act (FACA), the public and the Agency are invited to submit written comments on these three questions that are the focus of the review. Submissions should be received by March 1, 2002 by Ms. Diana Pozun, EPA Science Advisory Board, Mail Code 1400A, U.S. Environmental Protection Agency, 1200 Pennsylvania Ave., NW, Washington DC 20460. (Telephone (202) 564-4544, FAX (202) 501-0582; or via e-mail at pozun.diana@epa.gov). Submission by e-mail to Ms. Pozun will maximize the time available for review by the Executive Committee.

Although not required by FACA, the SAB will have a brief period available for applicable public comment. Therefore, anyone wishing to make oral comments on the three focus questions above, but that are not duplicative of the written comments, should contact the Designated Federal Officer for the Executive Committee, Dr. Donald G. Barnes (see contact information below) by noon Eastern Time on Thursday, February 28, 2002.

FOR FURTHER INFORMATION CONTACT: Any member of the public wishing further information concerning this meeting or wishing to submit brief oral comments (10 minutes or less) must contact Dr. Donald Barnes, Designated Federal Officer, EPA Science Advisory Board (1400A), U.S. Environmental Protection Agency, 1200 Pennsylvania Avenue, NW, Washington, DC 20460; telephone (202) 564-4533; FAX (202) 501-0323; or via e-mail at barnes.don@epa.gov. Requests for oral comments must be in writing (e-mail, fax or mail) and received by Dr. Barnes no later than noon Eastern Time on Thursday, February 28, 2002.

2. Environmental Engineering Committee (EEC)—March 13, 2002

The Environmental Engineering Committee (EEC) of the US EPA Science Advisory Board (SAB) will conduct a public teleconference meeting on March 13, 2002. The meeting will begin at 12:00 pm and adjourn no later than 2:00 pm. The meeting will be coordinated through a conference call connection in Room 6450C, USEPA, Ariel Rios Building North, 1200 Pennsylvania Avenue, NW, Washington, DC 20004. The public is encouraged to attend the meeting in the conference room noted above, however, the public may also attend through a telephonic link if lines are available. Additional instructions about how to participate in the conference call can be obtained by calling Ms. Mary Winston (see contact information below).

Subsequent teleconference meetings of the EEC are planned for May 1, 2002, July 3, 2002, September 4, 2002 and November 6, 2002. Information concerning these meetings will appear in future Federal Register notices.

Purpose of the Meeting—The primary purpose of this teleconference meeting is to review for approval the report of the EEC's Surface Impoundments Study Subcommittee. The Surface Impoundments Study Subcommittee reviewed Industrial Surface Impoundments in the United States for the Agency's Office of Solid Waste as announced in 66 FR 30917-30920 June 8, 2001 and 66 FR 9671-49672 September 28, 2001. At its February 1, 2002 teleconference meeting, the Subcommittee decided further edits were warranted to improve clarity, consistency, balance and tone of its report. The Subcommittee anticipates approving the revised draft report in time for the EEC's consideration at the March 13 conference call meeting. The EEC will use the remainder of the call for other committee business and for strategic planning.

Availability of Review Materials—The availability of Industrial Surface Impoundments in the United States was announced previously in the FRs cited above. The draft report of the review, once approve by the Subcommittee, will be available at the SAB's Web site, www.epa.gov/sab.

FOR FURTHER INFORMATION CONTACT: Any member of the public wishing further information concerning this teleconference meeting or who wishes to submit brief oral comments (3 minutes or less) must contact Ms. Kathleen White, Designated Federal Officer, EPA Science Advisory Board (1400A), U.S. Environmental Protection Agency, 1200 Pennsylvania Avenue, NW, Washington, DC 20460; telephone (202) 564-4559; FAX (202) 501-0582; or via e-mail at white.kathleen@epa.gov. Requests for oral comments must be in writing (e-mail, fax or mail) and received by Ms. White no later than noon Eastern Time Thursday, March 7, 2002. To obtain a draft agenda or information on participation in the above teleconference meeting, please contact Ms. Mary Winston, Management Assistant, EPA Science Advisory Board (1400A), U.S. Environmental Protection Agency, 1200 Pennsylvania Avenue, NW, Washington, DC 20460; telephone: (202) 564-4538, FAX (202) 501-0582; or via e-mail at winston.mary@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

General Information—Additional information concerning the EPA Science Advisory Board, its structure, function, and composition, may be found on the SAB Web site, http://www.epa.gov/sab, and in The FY2001 Annual Report of the Staff Director which is available from the SAB Publications Staff at (202) 564-4533 or via fax at (202) 501-0256. Committee rosters, draft Agendas and meeting calendars are also located on our Web site.

Meeting Access—Individuals requiring special accommodation at this meeting, including wheelchair access to the conference room, should contact the appropriate DFO at least five business days prior to the meeting so that appropriate arrangements can be made.

Dated: February 8, 2002.
Donald G. Barnes,
Staff Director, EPA Science Advisory Board.

[FR Doc. 02-3657 Filed 2-13-02; 8:45 am]

BILLING CODE 6560-50-P